DEPARTMENT OF HEALTH AND HUMAN SERVICES

National Institutes of Health

Center for Scientific Review; Amended Notice of Meeting

Notice is hereby given of a change in the meeting of the Center for Scientific Review Special Emphasis Panel, June 7, 2019, 11:00 a.m. to June 7, 4:00 p.m., National Institutes of Health, 6701 Rockledge Drive, Bethesda, MD, 20892 which was published in the Federal Register on April 25, 2019, 84 FR 17415.

The meeting will be held as a virtual meeting and the committee name should be Center for Scientific Review Special Emphasis Panel, Member Conflict: Neuroscience and Bioengineering.

The meeting is closed to the public.

Dated: May 2, 2019.
Melanie J. Pantoja,
Program Analyst, Office of Federal Advisory Committee Policy.

[FR Doc. 2019-09348 Filed 5-6-19; 8:45 am]

BILLING CODE 4140-01-P